DEPARTMENT OF THE INTERIOR

Bureau of Land Management

[LLCOF00000-L19900000.PO0000-17X]

Notice of Meeting, Rocky Mountain Resource Advisory Council

AGENCY: Bureau of Land Management, Interior.

ACTION: Notice of public meeting.

SUMMARY: In accordance with the Federal Land Policy and Management Act and the Federal Advisory Committee Act of 1972, the U.S. Department of the Interior, Bureau of Land Management (BLM) Rocky Mountain Resource Advisory Council (RAC), will meet as indicated below.

DATES: The meeting will be held on November 10, 2016, from 9:00 a.m. to 4:00 p.m.

ADDRESSES: The meeting will be held at the BLM Royal Gorge Field Office, 3028 E. Main St., Cañon City, CO 81212.

FOR FURTHER INFORMATION CONTACT: Jayson Barangan, Public Affairs Specialist, BLM Colorado State Office, 2850 Youngfield St., Lakewood, CO 80215. Phone: (303) 239-3681. Email: jbaranga@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member Council advises the Secretary of the Interior, through the BLM, on a variety of planning and management issues associated with public land management in the BLM Rocky Mountain District, which includes the Gunnison, Royal Gorge and the San Luis Valley field offices in Colorado. Planned topics of discussion items include: Review of draft alternatives for the Eastern Colorado Resource Management Plan. The public is encouraged to make oral comments to the Council at 9:15 a.m., or written statements may be submitted for the Council's consideration. Summary minutes for the RAC meetings will be maintained in the Royal Gorge Field Office and will be available for public inspection and reproduction during regular business hours within thirty (30) days following the meeting. Previous meeting minutes and agendas are available at: www.blm.gov/co/st/en/BLM_Resources/racs/frrac/co_rac_minutes_front.html.

Ruth Welch,
Colorado State Director.

[FR Doc. 2016-25369 Filed 10-19-16; 8:45 am]

BILLING CODE 4310-JB-P